DEPARTMENT OF HEALTH AND HUMAN SERVICES

Food and Drug Administration

Statement of Organizations, Functions, and Delegations of Authority

AGENCY: Office of Foods and Veterinary Medicine, Center for Food Safety and Applied Nutrition, Food and Drug Administration, HHS.

ACTION: Notice.

SUMMARY: Statement of Organizations, Functions, and Delegations of Authority.

The Food and Drug Administration (FDA) is announcing that it has reorganized the Office of Foods and Veterinary Medicine (OFVM), Center for Food Safety and Applied Nutrition (CFSAN) by establishing the new Office of Executive Programs (OEP); realigning OFVM's Office of Coordinated Outbreak Response and Evaluation (CORE) Network along with its Prevention Staff and Response Staff under CFSAN; and retitling the Office of Regulations, Policy, and Social Science (ORPSS) to the Office of Regulations and Policy (ORP). With the retitling to ORP, the Regulations and Special Government Employee Management Staff was retitled to the Regulations Development Staff, and the Government Information Staff was established. This reorganization resulted in the abolishment of OFVM's Executive Secretariat Staff, CFSAN's Office of the Center Director's (OCD) Executive Operations Staff, and the Division of Social Sciences under the former ORPSS. This new organizational structure was approved by the Acting Secretary of Health and Human Services and applicable on December 7, 2017.

FOR FUTHER INFORMATION CONTACT: Jeffrey Domanski, Associate Director for Management, Center for Food Safety and Applied Nutrition, Office of Foods and Veterinary Medicine, Food and Drug Administration, 5001 Campus Drive, College Park, MD 20740, 240-402-2471.

I. Part D, Chapter D-B, (Food and Drug Administration), the Statement of Organizations, Functions, and Delegations of Authority for the Department of Health Human Services (35 FR 3685, February 25, 1970; 60 FR 56605, November 9, 1995; 64 FR 36361, July 6, 1999; 72 FR 50112, August 30, 2007; 74 FR 41713, August 18, 2009; and 76 FR 45270, July 28, 2011) is amended to reflect the realigning of functions and personnel from OFVM's abolished Executive Secretariat Staff and CFSAN OCD's Executive Operations Staff to the newly established OEP, which will strengthen OFVM's capacity to coordinate across the various components of the Foods and Veterinary Medicine Program and better meet the day-to-day needs of its senior leadership. CORE is now reflected under CFSAN to facilitate greater collaboration, coordination, and leveraging of resources. ORP formalizes previous informal programs clarifying staff allocation, management, and leadership for internal and external stakeholders. This reorganization is explained in Staff Manual Guides 1160.1, 1230A.1, 1231.10, 1231.19, 1231.22, 1231.23, and 1241.1.

FDA, OFVM and CFSAN have been restructured as follows:

DJJ Organization. OFVM is headed by the Deputy Commissioner for Foods and Veterinary Medicine and includes the following organizational units:

Office of Foods and Veterinary Medicine (DJJ)

Communications and Public Engagement Staff (DJJ1)

Office of Resource Planning and Strategic Management (DJJA)

Center for Food Safety and Applied Nutrition (DJJH) Center for Veterinary Medicine (DJJV)

DJJH Organization. CFSAN is headed by the Center Director and includes the following organizational units:

Center for Food Safety and Applied Nutrition (DJJH)

Office of the Center Director (DJJHA)

Office of Management (DJJHB)

Office of Analytics and Outreach (DJJHC)

Office of Food Safety (DJJHD)

Office of Cosmetics and Colors (DJJHE)

Office of Regulatory Science (DJJHF)

Office of Food Additive Safety (DJJHG)

Office of Compliance (DJJHH)

Office of Applied Research and Safety Assessment (DJJHI)

Office of Regulations and Policy (DJJHJ)

Office of Nutrition and Food Labeling (DJJHK)

Office of Dietary Supplement Programs (DJJHL)

Office of Executive Programs (DJJHM)

Office of Coordinated Outbreak Response and Evaluation Network (DJJHN)

DJJHJ Organization. ORP is headed by the Office Director and includes the following organizational units:

Office of Regulations and Policy (DJJHJ)

Regulations Development Staff (DJJHJ1)

Government Information Staff (DJJHJ2)

DJJHM Organization. OEP is headed by the Office Director and includes the following organizational unit:

Office of Executive Programs (DJJHM)

DJJHN Organization. CORE is headed by the Office Director and includes the following organizational units:

Office of Coordinated Outbreak Response and Evaluation Network (DJJHN)

Prevention Staff (DJJHN1)

Response Staff (DJJHN2)

I. Delegations of Authority. Pending further delegation, directives, or orders by the Commissioner of Food and Drugs, all delegations and redelegations of authority made to officials and employees of affected organizational components will continue in them or their successors pending further redelegations, provided they are consistent with this reorganization.

II. Electronic Access. Persons interested in seeing the completed Staff Manual Guide can find it on FDA's Webs site at: http://www.fda.gov/AboutFDA/ReportsManualsForms/StaffManualGuides/default.htm.

(Authority: 44 U.S.C. § 3101.)

Dated: June 28, 2018.
Alex M. Azar II,
Secretary.

[FR Doc. 2018-14375 Filed 7-3-18; 8:45 am]

BILLING CODE 4164-01-P